DEPARTMENT OF ENERGY

Federal Energy Regulatory Commission

Combined Notice of Filings #1

Take notice that the Commission received the following electric corporate filings:

Docket Numbers: EC17-51-000.

Applicants: MidAmerican Energy Company.

Description: Application for Approval of Acquisition of Assets Pursuant to Section 203 of Federal Power Act of MidAmerican Energy Company.

Filed Date: 12/20/16.

Accession Number: 20161220-5136.

Comments Due: 5 p.m. ET 1/10/17.

Take notice that the Commission received the following electric rate filings:

Docket Numbers: ER16-2578-002.

Applicants: North Lancaster Ranch LLC.

Description: Notice of Non-Material Change in Status of North Lancaster Ranch LLC.

Filed Date: 12/20/16.

Accession Number: 20161220-5385.

Comments Due: 5 p.m. ET 1/10/17.

Docket Numbers: ER16-2716-001.

Applicants: NextEra Energy Transmission MidAtlantic.

Description: Tariff Amendment: NextEra Energy MidAtlantic, LLC Response to Deficiency Letter to be effective 11/30/2016.

Filed Date: 12/21/16.

Accession Number: 20161221-5132.

Comments Due: 5 p.m. ET 1/11/17.

Docket Numbers: ER16-2717-001.

Applicants: NextEra Energy Transmission Midwest, LLC.

Description: Tariff Amendment: NextEra Energy Transmission Midwest, LLC Response to Deficiency Letter to be effective 11/30/2016.

Filed Date: 12/21/16.

Accession Number: 20161221-5130.

Comments Due: 5 p.m. ET 1/11/17.

Docket Numbers: ER16-2719-002.

Applicants: NextEra Energy Transmission New York, Inc.

Description: Tariff Amendment: NextEra Energy Transmission New York, Inc. Response to Deficiency Letter to be effective 11/30/2016.

Filed Date: 12/21/16.

Accession Number: 20161221-5134.

Comments Due: 5 p.m. ET 1/11/17.

Docket Numbers: ER16-2720-001.

Applicants: NextEra Energy Transmission Southwest, LLC.

Description: Tariff Amendment: NextEra Energy Transmission Southwest, LLC Response to Deficiency Letter to be effective 11/30/2016.

Filed Date: 12/21/16.

Accession Number: 20161221-5136.

Comments Due: 5 p.m. ET 1/11/17.

Docket Numbers: ER17-67-001.

Applicants: Midcontinent Independent System Operator, Inc.

Description: Compliance filing: 2016-12-21_Compliance filing for the reorginization of section 40.3.3 to be effective 11/12/2016.

Filed Date: 12/21/16.

Accession Number: 20161221-5088.

Comments Due: 5 p.m. ET 1/11/17.

Docket Numbers: ER17-306-001.

Applicants: Beacon Solar 3, LLC.

Description: Compliance filing: Beacon Solar 3, LLC MBR Tariff to be effective 12/21/2016.

Filed Date: 12/20/16.

Accession Number: 20161220-5137.

Comments Due: 5 p.m. ET 1/10/17.

Docket Numbers: ER17-591-000.

Applicants: Southwest Power Pool, Inc.

Description: § 205(d) Rate Filing: 2234R3 Osage Wind/PSO Facilities Construction Agreement to be effective 11/29/2016.

Filed Date: 12/20/16.

Accession Number: 20161220-5124.

Comments Due: 5 p.m. ET 1/10/17.

Docket Numbers: ER17-592-000.

Applicants: Southern California Edison Company.

Description: § 205(d) Rate Filing: GIA & DSA 2MW Powin Bess, Irvine CA Project SA Nos. 925 & 926 to be effective 12/21/2016.

Filed Date: 12/20/16.

Accession Number: 20161220-5126.

Comments Due: 5 p.m. ET 1/10/17.

Docket Numbers: ER17-593-000.

Applicants: Michigan Electric Transmission Company, LLC.

Description: Notice of Cancellation of Facilities Agreement of Michigan Electric Transmission Company, LLC.

Filed Date: 12/19/16.

Accession Number: 20161219-5427.

Comments Due: 5 p.m. ET 1/9/17.

Docket Numbers: ER17-594-000.

Applicants: Midcontinent Independent System Operator, Inc.

Description: § 205(d) Rate Filing: 2016-12-20_SA 2904 Cooperative Energy-MS Solar 3 1st Rev. (J473) to be effective 12/21/2016.

Filed Date: 12/20/16.

Accession Number: 20161220-5183.

Comments Due: 5 p.m. ET 1/10/17.

Docket Numbers: ER17-596-000.

Applicants: NorthWestern Corporation.

Description: § 205(d) Rate Filing: SA 31 16th Rev—NITSA with Phillips 66 to be effective 3/1/2017.

Filed Date: 12/21/16.

Accession Number: 20161221-5082.

Comments Due: 5 p.m. ET 1/11/17.

Docket Numbers: ER17-597-000.

Applicants: NorthWestern Corporation.

Description: § 205(d) Rate Filing: SA 32 7th Rev—NITSA with The Colstrip Steam Electric Station to be effective 3/1/2017.

Filed Date: 12/21/16.

Accession Number: 20161221-5084.

Comments Due: 5 p.m. ET 1/11/17.

Docket Numbers: ER17-598-000.

Applicants: NorthWestern Corporation.

Description: § 205(d) Rate Filing: SA 35 4th Rev—NITSA with The Town of Philipsburg to be effective 3/1/2017.

Filed Date: 12/21/16.

Accession Number: 20161221-5085.

Comments Due: 5 p.m. ET 1/11/17.

Docket Numbers: ER17-599-000.

Applicants: NorthWestern Corporation.

Description: § 205(d) Rate Filing: SA 245 7th Rev—NITSA with Ash Grove Cement to be effective 3/1/2017.

Filed Date: 12/21/16.

Accession Number: 20161221-5113.

Comments Due: 5 p.m. ET 1/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2016.
Nathaniel J. Davis, Sr.,
Deputy Secretary.

[FR Doc. 2016-31338 Filed 12-27-16; 8:45 am]

BILLING CODE 6717-01-P